INTERNATIONAL TRADE COMMISSION

[Investigation No. 337-TA-931]

Certain Formatted Magnetic Data Storage Tapes and Cartridges Containing Same; Commission Determination Not To Review an Initial Determination Terminating the Investigation Based on Settlement

AGENCY: U.S. International Trade Commission.

ACTION: Notice.

SUMMARY: Notice is hereby given that the U.S. International Trade Commission has determined not to review an initial determination (“ID”) (Order No. 19) by the presiding administrative law judge (“ALJ”) terminating the above-captioned investigation based on settlement.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on September 29, 2014, based on a complaint filed by Advanced Research Corporation of White Bear Lake, Minnesota (“ARC”). 79 FR 58382-83 (Sept. 29, 2014). The complaint alleged violations of section 337 of the Tariff Act of 1930, as amended (19 U.S.C. 1337), based on infringement of five U.S. patents. The notice of investigation, as amended, named the following respondents: Fujifilm Holdings Corporation of Tokyo, Japan; Fujifilm Corporation of Tokyo, Japan; Fujifilm Recording Media USA, Inc., of Bedford, Massachusetts; Oracle Corporation of Redwood Shores, California; Oracle America, Inc., of Redwood Shores, California; and International Business Machines Corp. of Armonk, New York. The Office of Unfair Import Investigations was also named as a party. Id. at 58383; 79 FR 78905 (Dec. 31, 2014).

On June 19, 2015, ARC and all respondents filed a joint motion to terminate the investigation based on a settlement agreement between ARC and all respondents. On June 26, 2015, the Commission investigative attorney filed a response supporting the motion.

On June 29, 2015, the ALJ issued the subject ID, granting the motion to terminate the investigation. The ALJ found that the motion complied with Commission Rules and that termination would be in the public interest. No petitions for review of the ID were filed.

The Commission has determined not to review the ID.

The authority for the Commission's determination is contained in section 337 of the Tariff Act of 1930, as amended (19 U.S.C. 1337), and in part 210 of the Commission's Rules of Practice and Procedure (19 CFR part 210).

By order of the Commission.
Issued: July 24, 2015.
Lisa R. Barton,
Secretary to the Commission.

[FR Doc. 2015-18578 Filed 7-28-15; 8:45 am]

BILLING CODE 7020-02-P